FEDERAL DEPOSIT INSURANCE CORPORATION

12 CFR Part 329

Liquidity Risk Measurement Standards

CFR Correction

This rule is being published by the Office of the Federal Register to correct an editorial or technical error that appeared in the most recent annual revision of the Code of Federal Regulations.

In Title 12 of the Code of Federal Regulations, parts 300 to 346, revised as of January 1, 2022, make the following corrections:

§ 329.22 [Corrected]

1. Amend § 329.22 in paragraphs (a)(2) introductory text, (a)(2)(ii), (a)(4), and (a)(5), by removing the text “” in its place wherever it appears.” wherever it appears.

§ 329.40 [Corrected]

2. Amend § 329.40 in paragraph (a) by adding the words “An FDIC-supervised institution” to the beginning of the first sentence.

[FR Doc. 2022-09989 Filed 5-6-22; 8:45 am]

BILLING CODE 0099-10-P